SMALL BUSINESS ADMINISTRATION

[Disaster Declaration #10640 and #10641]

Indiana Disaster Number IN-00008

AGENCY: U.S. Small Business Administration.

ACTION: Amendment 1.

SUMMARY: This is an amendment of the Presidential declaration of a major disaster for the State of Indiana (FEMA-1662-DR), dated 10/10/2006.

Incident: Severe Storms and Flooding.

Incident Period: 09/12/2006 through 09/14/2006.

EFFECTIVE DATE: 11/01/2006.

Physical Loan Application Deadline Date: 12/05/2006.

EIDL Loan Application Deadline Date: 07/06/2007.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the Presidential disaster declaration for the State of Indiana, dated 10/10/2006 is hereby amended to include the following areas as adversely affected by the disaster:

Primary Counties: Warrick.

Contiguous Counties:

Indiana: Dubois, Pike, Spencer.

Kentucky: Daviess.

All other information in the original declaration remains unchanged.

(Catalog of Federal Domestic Assistance Numbers 59002 and 59008).

Roger B. Garland,
Acting Associate Administrator for Disaster Assistance.

[FR Doc. E6-19053 Filed 11-9-06; 8:45 am]

BILLING CODE 8025-01-P